FEDERAL MEDIATION AND CONCILIATION SERVICE

Labor-Management Relations Information Collection Requests

AGENCY: Federal Mediation and Conciliation Service.

ACTION: Submission for OMB Review: Request for Comments.

SUMMARY: The Federal Mediation and Conciliation Service (FMCS), hereby announces the submission of the following public information collection requests (ICR) to the Office of Management and Budget (OMB) for review and approval in accordance with the Paperwork Reduction Act of 1995 (Pub. L. 104-13). The information collection requests are FMCS forms: Arbitrator's Report and Fee Statement (Agency Form R-19; OMB control number 3076-0003), Arbitrator's Personal Data Questionnaire (Agency Form R-22; OMB control number 3076-0001), and Request for Arbitration Panel (Agency Form R-43; OMB control number 3076-0002). No comments were received pursuant to FMCS's prior 60-day notice in the Federal Register on April 28, 2015.

These information collection requests were previously approved by OMB and we are requesting their reinstatement without change to the collections. These information collections will be used to collect information to determine applicant suitability for the arbitration roster, to monitor the work of arbitrators, and to collect information that facilitates the processing of arbitration requests.

The OMB is particularly interested in comments which:

(1) Evaluate whether the proposed collection of information is necessary for the proper performance of the functions of the agency, including whether the information will have practical utility;

(2) Evaluates the accuracy of the agency's estimates of the burden of the proposed collection information;

(3) Enhance the quality, utility, and clarity of the information to be collected;

(4) Minimize the burden of the collections of information on those who are to respond, including the use of appropriate automated, electronic collection technologies or other forms of information technology.

Burden: FMCS receives approximately 100 responses per year to the Arbitrator's Personal Data Questionnaire (OMB No. 3076-001); 1,984 responses per year to the Arbitrator's Report and Fee Statement (OMB No. 3076-0003); and 13,179 responses per year to the Request for Arbitration Panel form (OMB No. 3076-0002).

Affected Entities: Individuals who apply for admission to the FMCS Roster of Arbitrators; arbitrators who render decision under FMCS arbitration policies and procedures; and employers, labor unions and their representative who request arbitration services.

DATES: Comments must be submitted on or before August 20, 2015.

ADDRESSES: Submit written comments to: Email: oira_submissions@omb.eop.gov. Please include the FMCS form numbers, the information collection title and the OMB control number in the subject line of your message. Comments may also be sent to fax number 202.395.5806 to the attention of Desk Officer for FMCS.

SUPPLEMENTARY INFORMATION: For additional information, see the related 60-day notice published in the Federal Register on April 28, 2015, at 80 FR 23550, 23551.

Dated: July 16, 2015.
Jeannette Walters-Marquez,
Attorney Advisor.

[FR Doc. 2015-17837 Filed 7-20-15; 8:45 am]

BILLING CODE 6732-01-P